DEPARTMENT OF JUSTICE

Notice of Lodging of Consent Decree Under the Clean Water Act

In accordance with Department of Justice policy, notice is hereby given that on October 10, 2007, a proposed consent decree (“Consent Decree”) in United States and the State of Illinois v. Board of Regents of the University of Illinois, et al., Civil Action No. 2:07-cv-02188, was lodged with the United States District Court for the Central District of Illinois.

The Consent Decree would resolve claims for natural resource damages under Section 311(f) of the Clean Water Act, 33 U.S.C. 1321(f), against the three defendants named in the complaint: the Board of Regents of the University of Illinois, the Urbana Champaign Sanitary District, and CEDA, Inc. (collectively the “Defendants”). The complaint alleges that the Defendants are liable for payment of natural resource damages for a fish kill incident that occurred in July 2002, when the Defendants discharged ammonia-containing wastewater to the Saline Branch Drainage ditch above its confluence with the Salt Fork of the Vermillion River in Urbana, Illinois. The Consent Decree would require the Defendants to pay a total of $491,000 to resolve the natural resource damages claims asserted by the United States and the State of Illinois, including payment of: (i) $450,000 for natural resource restoration projects to be performed by the Federal and State natural resource trustees; (ii) $33,000 for reimbursement of natural resource damage assessment costs incurred by the Illinois Department of Natural Resources; and (iii) $8,000 for reimbursement of natural resource damage assessment costs incurred by the U.S. Department of the Interior.

The Department of Justice will receive comments relating to the Consent Decree for a period of thirty (30) days from the date of this publication. Comments should be addressed to the Assistant Attorney General, Environment and Natural Resources Division, and either e-mailed to pubcomment-ees.enrd@usdoj.gov or mailed to P.O. Box No. 7611, Washington, DC 20044-7611, and should refer to United States and the State of Illinois v. Board of Regents of the University of Illinois, et al., Civil Action No. 2:07-cv-02188, D.J. Reference No. 90-11-3-08748.

The Consent Decree may be examined at the Office of the United States Attorney for the Central District of Illinois, One Technology Plaza, 211 Fulton Street, Suite 400, Peoria, Illinois 61602. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $8.50 (34 pages at 25 cents per page reproduction cost) payable to the U.S. Treasury.

Maureen M. Katz,
Assistant Chief, Environmental Enforcement Section, Environment and Natural Resources Division.

[FR Doc. 07-5124 Filed 10-16-07; 8:45 am]

BILLING CODE 4410-15-M